DEPARTMENT OF HEALTH AND HUMAN SERVICES

Centers for Disease Control and Prevention

[Program Announcement 04142]

BECAUSE Kids Count! (Building and Enhancing Community Alliances United for Safety and Empowerment); Notice of Availability of Funds-Amendment

A notice announcing the availability of fiscal year (FY) 2004 funds for a cooperative agreement BECAUSE Kids Count! (Building and Enhancing Community Alliances United for Safety and Empowerment) was published in the Federal Register, May 10, 2004, Volume 69, Number 90, pages 25899-25903. The notice is amended as follows: Page 25899, second column, change Letter of Intent Deadline to May 28, 2004 and change Application Deadline Date to June 23, 2004. Page 25901, second column, change Letter of Intent (LOI) Deadline to May 28, 2004 and page 25901, first column, Pre-Application Conference Call: change time from 9:30 a.m. Eastern time to 12:30 p.m. Eastern time.

Dated: May 18, 2004.
William P. Nichols,
Acting Director, Procurement and Grants Office, Centers for Disease Control And Prevention.

[FR Doc. 04-11636 Filed 5-21-04; 8:45 am]

BILLING CODE 4163-18-P